DEPARTMENT OF AGRICULTURE

National Institute of Food and Agriculture

Notice of Intent To Change the Submission Requirements of a Currently Approved Information Collection

AGENCY: National Institute of Food and Agriculture, USDA.

ACTION: Notice and request for comments.

SUMMARY: In accordance with the Paperwork Reduction Act of 1995 and Office of Management and Budget (OMB) regulations, this notice announces the National Institute of Food and Agriculture's (NIFA) intention to revise a currently approved information collection entitled, “Reporting Requirements for State Plans of Work for Agricultural Research and Extension Formula Funds.”

DATES: Written comments on this notice must be received by December 31, 2013 to be assured of consideration. Comments received after this date will be considered to the extent practicable.

ADDRESSES: You may submit comments by any of the following methods: Email: Include [Plan of Work] in the subject line of the message. rmartin@nifa.usda.gov; Fax: 202-720-0857; Mail: Office of Information Technology (OIT), NIFA, USDA, STOP 2216, 1400 Independence Avenue SW., Washington, DC 20250-2216.

FOR FURTHER INFORMATION CONTACT: Robert Martin, eGovernment Program Leader; Email: rmartin@nifa.usda.gov.

SUPPLEMENTARY INFORMATION: Title: Reporting Requirements for State Plans of Work for Agricultural Research and Extension Formula Grants.

OMB Number: 0524-0036.

Expiration Date of Current Approval: August 31, 2016.

Type of Request: Notice of intent to change the submission requirements for a currently approved information collection. The burden for this submission remains unchanged.

Authority: Pub. L. 104-13 and 5 CFR part 1320 (60 FR 44977, August 29, 1985).

Abstract: This notice changes the requirement for institutions within a state to submit individual Plans of Work and Annual Reports of Accomplishments; and now will require states to submit the Plans of Work and Annual Reports of Accomplishments as a single integrated State-wide submission. In a memorandum dated November 8, 2012, Dr. Sonny Ramaswamy, NIFA Director, stated NIFA's intent to implement this policy change, in accordance with the Agriculture, Research, Extension, and Education Reform Act of 1998 (AREERA), beginning with the FY 2015-2019 Plan of Work Update, due April 1, 2014, to require that all Plans of Work be submitted at the “state level”. NIFA defines “state level” as the combining of all 1862 and 1890 Land-Grant University and State Research and Extension entities within the same State or Insular Area. Full integration of Research and Extension entities in a State enables full demonstration of effective partnership and leveraging in the use of the federal grant dollars subject to the Plan of Work.

The intent is to replace section II.A.1. of the Guidelines for State Plans of Work for Agricultural Research and Extension Formula Funds published in the Federal Register (71 FR 4101, 25 January 2006)) with the following text:

II. Submission of the 5-Year Plan of Work

A. General

1. Planning Option

This document provides guidance for preparing the Plan of Work (POW) with preservation of programmatic flexibility within the Federal-State Partnership. The POW is a 5-year prospective plan that covers the initial period of FY 2007 through FY 2011, with the submission of annual updates to the 5-Year POW to add an additional year to the plan each year. The 5-Year POWs must be prepared for state-wide activities, which include research and extension activities for all the eligible institutions in a State. Each 5-Year POW must reflect the content of the program(s) funded by Federal agricultural research and extension formula funds and the required matching funds. This 5-Year POW must describe how the program(s) address critical short-term, intermediate, and long-term agricultural issues in a State.

Comments: Comments are invited on: (a) Whether the proposed change to the guidelines is necessary for the proper performance of the functions of the Agency, including whether the information will have practical utility; and (b) whether the proposed change to the guidelines will present undue burden on the respondents. All responses to this notice will be summarized and included in the request to OMB for approval. All comments will become a matter of public record. Obtaining a Copy of the Information Collection: A copy of the information collection and related instructions may be obtained free of charge by contacting Robert Martin as directed above.

Done in Washington, DC, this 18th day of October 2013.
Catherine E. Woteki,
Under Secretary, Research, Education, and Economics.

[FR Doc. 2013-25990 Filed 10-31-13; 8:45 am]

BILLING CODE 3410-22-P